DEPARTMENT OF TRANSPORTATION

Federal Aviation Administration

14 CFR Part 39

[Docket No. FAA-2008-0423; Directorate Identifier 2008-CE-010-AD]

RIN 2120-AA64

Airworthiness Directives; GENERAL AVIA Costruzioni Aeronatiche Models F22B, F22C, and F22R Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

ENAC Italy AD 2004-376 was issued in response to two separate reports of cracks found in the Firewall-to-Engine mounting attachments. Detachment of the engine mounts from the structure is the possible consequence. Although the actual cause has not been finally determined, some repairs have been approved to address and correct the unsafe condition.

This new AD, which supersedes ENAC Italy AD 2004-376, retains the initial inspection requirement, adds repetitive inspections and clarifies the conditions under which aircraft that have been repaired by an approved method can be allowed to return to service.

The proposed AD would require actions that are intended to address the unsafe condition described in the MCAI.

DATES: We must receive comments on this proposed AD by May 12, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Comments Invited

We invite you to send any written relevant data, views, or arguments about this proposed AD. Send your comments to an address listed under the ADDRESSES section. Include “Docket No. FAA-2008-0423; Directorate Identifier 2008-CE-010-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for the Member States of the European Community, has issued AD No. 2008-0015, dated January 18, 2008 (referred to after this as “the MCAI”), to correct an unsafe condition for the specified products. The MCAI states:

ENAC Italy AD 2004-376 was issued in response to two separate reports of cracks found in the Firewall-to-Engine mounting attachments. Detachment of the engine mounts from the structure is the possible consequence. Although the actual cause has not been finally determined, some repairs have been approved to address and correct the unsafe condition.

This new AD, which supersedes ENAC Italy AD 2004-376, retains the initial inspection requirement, adds repetitive inspections and clarifies the conditions under which aircraft that have been repaired by an approved method can be allowed to return to service.

The MCAI requires you to repetitively inspect the structure surrounding the heads of the four bolts of the engine mount attachment bracket for cracks or damage and repair any cracks or damage found as a result of the inspection. You may obtain further information by examining the MCAI in the AD docket.

Relevant Service Information

Gomolzig Flugzeug-und Maschinenbau GmbH has issued General Avia F22 Modification 15328 Repair Instructions, dated September 10, 2007. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

There are no products of this type currently registered in the United States. However, this rule is necessary to ensure that the described unsafe condition is addressed if any of these products are placed on the U.S. Register in the future.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD would affect no products of U.S. registry. We also estimate that it would take about 100 work-hours per product to comply with the basic requirements of this proposed AD. The average labor rate is $80 per work-hour. Required parts would cost about $740 per product.

Based on these figures, we estimate the cost of the proposed AD on U.S. operators to be $0, or $8,740 per product.

We have no way of determining the number of products that may need any necessary follow-on actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

General Avia Costruzioni Aeronatiche: Docket No. FAA-2008-0423; Directorate Identifier 2008-CE-010-AD.

Comments Due Date

(a) We must receive comments by May 12, 2008.

Affected ADs

(b) None.

Applicability

(c) This AD applies to Models F22B, F22C, and F22R airplanes, all serial numbers, certificated in any category.

Subject

(d) Air Transport Association of America (ATA) Code 71: Power Plant—General.

Reason

(e) The mandatory continuing airworthiness information (MCAI) states:

ENAC Italy AD 2004-376 was issued in response to two separate reports of cracks found in the Firewall-to-Engine mounting attachments. Detachment of the engine mounts from the structure is the possible consequence. Although the actual cause has not been finally determined, some repairs have been approved to address and correct the unsafe condition.

This new AD, which supersedes ENAC Italy AD 2004-376, retains the initial inspection requirement, adds repetitive inspections and clarifies the conditions under which aircraft that have been repaired by an approved method can be allowed to return to service.

The MCAI requires you to repetitively inspect the structure surrounding the heads of the four bolts of the engine mount attachment bracket for cracks or damages and repair any cracks or damages found as a result of the inspection.

Actions and Compliance

(f) Do the following actions:

(1) Unless already done within the last 100 hours time-in-service (TIS) before the effective date of this AD, before further flight and repetitively thereafter at intervals not to exceed 100 hours TIS, inspect the structure surrounding the heads of the four bolts of the engine mount attachment bracket, approaching from the cabin of the aircraft in the zone below the instrument panel. In case the indicated area (in particular for the upper bolts) is not visible due to equipment presence (relay, cooling fan, and so forth), remove all of the upper right-hand panel and part of the left-hand panel of the fireproof bulkhead to approach the area to be inspected through the engine compartment. In this case the use of a small mirror is necessary.

(2) If as a result of any inspection required by paragraphs (f)(1) of this AD you find any discrepancies (for example, cracked or broken parts), do one of the following actions before further flight:

(i) Repair the aircraft following Gomolzig Flugzeug-und Maschinenbau GmbH General Avia F22 Modification 15328 Repair Instructions, dated September 10, 2007; or

(ii) Repair the aircraft following a repair method approved by the FAA for this AD.

(3) If you repair the aircraft as specified in paragraph (f)(2)(i) of this AD, repetitively thereafter inspect the aircraft at intervals not to exceed 500 hours TIS following the instructions in paragraph (f)(1) of this AD. If as a result of these repetitive inspections you find any discrepancies, prior to further flight, repair the aircraft following Gomolzig Flugzeug-und Maschinenbau GmbH General Avia F22 Modification 15328 Repair Instructions, dated September 10, 2007.

(4) If you repair the aircraft as specified in paragraph (f)(2)(ii) of this AD, repetitively thereafter inspect the aircraft using the repetitive inspection interval established by the FAA-approved repair method used. Follow the inspection instruction in paragraph (f)(1) of this AD. If as a result of the inspection you find any discrepancies, repair before further flight following a repair method approved by the FAA for this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to ensure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No. 2008-0015, dated January 18, 2008; and Gomolzig Flugzeug-und Maschinenbau GmbH General Avia F22 Modification 15328 Repair Instructions, dated September 10, 2007, for related information.

Issued in Kansas City, Missouri, on April 3, 2008.
David R. Showers,
Acting Manager, Small Airplane Directorate, Aircraft Certification Service.

[FR Doc. E8-7657 Filed 4-10-08; 8:45 am]

BILLING CODE 4910-13-P